DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by December 22, 2004.

Title, Form, and OMB Number: Request for Verification of Birth; DD Form 372; OMB Control Number 0704-0006.

Type of Request: Extension.

Number of Respondents: 100,000.

Responses Per Respondent: 1.

Annual Responses: 100,000.

Average Burden Per Response: 5 minutes.

Annual Burden Hours: 8,300.

Needs and Uses: Title 10, U.S.C. 505, 532, 3253, 5013, and 8253, require applicants meet minimum and maximum age and citizenship requirements for enlistment into the Armed Forces. If an applicant is unable to provide a birth certificate, the recruiter will forward a DD Form 372, “Request for Verification of Birth,” to a state or local agency requesting verification of the applicant's birth date. This verification of birth ensures that the applicant does not fall outside the age limitations, and that the applicant's place of birth supports the citizenship status claimed by the applicant.

Affected Public: State, local or tribal government.

Frequency: On Occasion.

Respondent's Obligation: Required to obtain or retain a benefit.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Ms. Patricia Toppings.

Written requests for copies of the information collection proposal should be sent to Ms. Toppings, WHS/ESCD/Information Management Division, 1225 South Clark Street, Suite 504, Arlington, VA 22202-4326.

Dated: November 12, 2004.
Patricia L. Toppings,
Alternate OSD Federal Register Liaison Officer, Department of Defense.

[FR Doc. 04-25755 Filed 11-19-04; 8:45 am]

BILLING CODE 5001-06-M